DEPARTMENT OF TRANSPORTATION

Federal Aviation Administration

14 CFR Part 71

[Docket No. FAA-2022-0625; Airspace Docket No. 21-AEA-11]

RIN 2120-AA66

Establishment and Amendment of Area Navigation (RNAV) Routes; Eastern United States

AGENCY: Federal Aviation Administration (FAA), DOT.

ACTION: Final rule.

SUMMARY: This action establishes 9 new High Altitude Area Navigation (RNAV) routes (Q-routes), and amends 12 existing Q-routes, in support of the Northeast Corridor Atlantic Coast Route (NEC ACR) Project. This action improves the efficiency of the National Airspace System (NAS) by expanding the availability of RNAV routing and reducing the dependency on ground-based navigational systems.

DATES: Effective date 0901 UTC, September 8, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2022-0625, in the Federal Register (87 FR 33085; June 1, 2022), establishing 9 new High Altitude Area Navigation (RNAV) routes (Q-routes), and amending 12 existing Q-routes, in support of the Northeast Corridor Atlantic Coast Route (NEC ACR) Project.

Interested parties were invited to participate in this rulemaking effort by submitting written comments on the proposal. No comments were received.

RNAV routes are published in paragraph 2006 of FAA Order JO 7400.11F dated August 10, 2021, and effective September 15, 2021, which is incorporated by reference in 14 CFR 71.1. The RNAV routes listed in this document will be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

In the description for route Q-111, the BUDWY, VA, waypoint (WP), name is changed to the SWNGR, VA, WP. The latitude/longitude coordinates remain the same so there is no change to the alignment of Q-111.

Additionally, in the description for route Q-167, the state information listed for the PAJET and CAANO WPs was incorrect and is changed from Maryland “MD” to Delaware “DE”. These state information corrections are editorial only and do not change the alignment of Q-167.

The Rule

The FAA is amending 14 CFR part 71 to establish 9 new High Altitude Area Navigation (RNAV) routes (Q-routes), and modify 12 existing Q-routes,

The Q-route amendments are as follows:

Q-22: Q-22 extends between the GUSTI, LA, Fix, and the FOXWOOD, CT, WP. This action would replace the Spartanburg, SC (SPA), VHF Omnidirectional Range and Tactical Air Navigational System (VORTAC) with the BURGG, SC, WP. The following points are removed from the route description because they do not denote a turn point or are not required to determine route alignment: NYBLK, NC, WP; MASHI, NC, WP; KIDDO, NC, WP; OMENS, VA, WP; UMBRE, VA, WP; SYFER, MD, WP; PYTHN, DE, WP; and LAURN, NY, Fix. The JOEPO, NJ, WP is moved 0.64 nautical miles (NM) southeast of its current position as requested by air traffic control to improve traffic efficiency.

Q-34: Q-34 extends from the Texarkana, AR (TXK), VORTAC to the Robbinsville, NJ (RBV), VORTAC. This rule removes the following points from the route description: KONGO, KY, Fix; LOOSE, AR, WP; MATIE, AR, Fix; MEMFS, TN, WP; SWAPP, TN, Fix; GHATS, KY, Fix; FOUNT, KY, Fix; TONIO, KY, Fix; NEALS, WV, Fix; ASBUR, WV, Fix; DUALY, MD, WP; and BIGRD, MD, WP. These points are not required in the route legal description because they do not affect the alignment of the route. The HITMN, TN, WP is inserted after the Texarkana, AR (TXK), VORTAC. The HULKK, NJ, WP is moved 2.36 NM southeast of its current position as requested by air traffic control to improve air traffic efficiency.

Q-60: Q-60 extends between the Spartanburg, SC (SPA), VORTAC, and the JAXSN, VA, Fix. This rule extends Q-60 northeast from the JAXSN, VA, Fix, to the HURTS, VA, WP. The Spartanburg VORTAC is replaced by the BURGG, SC, WP. The BYJAC, NC, Fix, and the LOOEY, VA, WP, are removed from the route because they do not denote a turn point.

Q-85: Q-85 extends between the LPERD, FL, WP, and the SMPRR, NC, WP. This rule further extends Q-85 from the SMPRR, NC, WP, northeast to the CRPLR, VA WP by adding the PBCUP, NC, WP, the MOXXY, NC, WP, and the CRPLR, VA, WP, after the SMPRR, NC, WP. As amended, Q-85 extends between the LPERD, FL, WP, and the CRPLR, VA, WP.

Q-87: Q-87 extends between the PEAKY, FL, WP, and the LCAPE, SC, WP. This rule extends Q-87 from the LCAPE, SC, WP, northeastward to the HURTS, VA, WP. The following points are inserted after the LCAPE, SC, WP: ALWZZ, NC, WP; ASHEL, NC, WP; DADDS, NC, WP; NOWAE, NC, WP; RIDDN, VA, WP; GEARS, VA, WP; and HURTS, VA, WP. The amended route extends between PEAKY, FL, and HURTS, VA.

Q-97: Q-97 extends between TOVAR, FL, WP, and the ELLDE, NC, WP. The route is extended northeast of the ELLDE, NC, WP to the Presque Isle, ME (PQI), VHF Omnidirectional Range/Distance Measuring Equipment (VOR/DME). The following points are inserted after the ELLDE, NC, WP: YEASO, NC, WP; PAACK, NC, WP; KOHLS, NC, WP; SAWED, VA, Fix; KALDA, VA, Fix; ZJAAY, MD, WP; DLAAY, MD, WP; BRIGS, NJ, Fix; HEADI, NJ, WP; SAILN, OA, WP; Calverton, NY (CCC), VOR/DME; NTMEG, CT, WP; VENTE, MA, WP; BLENO, NH, WP; BEEKN, ME, WP; FRIAR, ME, Fix, and the Presque Isle, ME (PQI), VOR/DME. This change provides RNAV routing from southern North Carolina to Maine.

Q-99: Q-99 extends between the KPASA, FL, WP, and the POLYY, NC, WP. Q-99 is amended by extending the route northeastward from the POLYY, NC, WP to the HURLE, VA, WP. The following points are inserted after the POLYY, NC,WP: RAANE, NC, WP; OGRAE, NC, WP; PEETT, NC, WP; SHIRY, VA, WP; UMBRE, VA, WP; QUART, VA, WP; and HURLE, VA, WP. As amended, Q-99 extends between the KPASA, FL, WP, and the HURLE, VA, WP.

Q-109: Q-109 extends between the KNOST, OG, WP, and the LAANA, NC, WP. This rule extends Q-109 northeastward from the LAANA, NC, WP, to the DFENC, NC, WP. The TINKK, NC, WP is added between LAANA and DFENC. As amended, Q-109 extends between the KNOST, OG, WP, and the DFENC, NC, WP.

Q-113: Q-113 extends between the RAYVO, SC, WP, and the SARKY, SC, WP. The route is extended from the SARKY, SC, WP northeastward by adding the following WPs: MARCL, NC; AARNN, NC; and RIDDN, VA. As amended, Q-113 extends between RAYVO, SC, and RIDDN, VA.

Q-135: Q-135 extends between the JROSS, SC, WP, and the RAPZZ, NC, WP. The route is extended to the northeast of the RAPZZ, NC, WP by adding the ZORDO, NC, and the CUDLE, NC, WPs to the route. As amended, Q-135 extends between the JROSS, SC, WP, and the CUDLE, NC, WP.

Q-409: Q-409 extends between the ENEME, GA, WP, and the MRPIT, NC, WP. Q-409 remains as currently charted between the ENEME, GA, WP, and the MRPIT, NC, WP. The route is extended to the northeast of the MRPIT WP by adding the following points: DEEEZ, NC, WP; GUILD, NC, WP; CRPLR, VA, WP; TRPOD, MD, WP; GNARO, DE, WP; VILLS, NJ, Fix; Coyle, NJ (CYN), VORTAC; to the WHITE, NJ, Fix. As amended, Q-409 extends between the ENEME, GA, WP, and the WHITE, NJ, WP. This change extends RNAV routing from southern North Carolina to New Jersey.

Q-419: Q-419 extends between the BROSS, MD, Fix and the Deer Park, NY, VOR/DME. This rule removes the MYFOO, DE, WP, and the NACYN, NJ, WP from the route description because they do not mark a turn point on the route. In addition, the HULKK, NJ, WP, is moved 2.36 NM southeast of its current position as requested by air traffic control to improve air traffic efficiency.

The new Q-routes are as follows:

Q-101: Q-101 extends between the SKARP, NC, WP, and the TUGGR, VA, WP.

Q-107: Q-107 extends between the GARIC, NC, WP, and the HURTS, VA, WP.

Q-111: Q-111 extends between the ZORDO, NC, WP, and the ALXEA, VA, WP.

Q-117: Q-117 extends between the YLEEE, NC, WP, and the SAWED, VA, Fix.

Q-131: Q-131 extends between the ZILLS, NC, WP, and the ZJAAY, MD, WP.

Q-133: Q-133 extends between the CHIEZ, NC, WP, and the PONCT, NY, WP.

Q-167: Q167 extends between the ZJAAY, MD, WP, and the SSOXS, MA, Fix.

Q-445: Q-445 extends between the PAACK, NC, WP, and the KYSKY, NY, Fix.

Q-481: Q-481 extends between the CONFR, MD, WP, and the Deer Park, NY (DPK), VOR/DME.

Full route descriptions of the new and amended routes are listed in the amendments to part 71 set forth below.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing 9 new High Altitude Area Navigation (RNAV) routes (Q-routes), and amending 12 existing Q-routes, in support of the NEC ACR Project, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2006 United States Area Navigation Routes.

* * * * *

Q-22 GUSTI, LA to FOXWD, CT [Amended]
GUSTI, LA | FIX | (Lat. 29°58′15.34″ N, long. 092°54′35.29″ W)
OYSTY, LA | FIX | (Lat. 30°28′15.21″ N, long. 090°11′49.14″ W)
ACMES, AL | WP | (Lat. 30°55′27.13″ N, long. 088°22′10.82″ W)
CATLN, AL | FIX | (Lat. 31°18′26.03″ N, long. 087°34′47.75″ W)
TWOUP, GA | WP | (Lat. 33°53′45.39″ N, long. 083°49′08.39″ W)
BURGG, SC | WP | (Lat. 35°02′00.55″ N, long. 081°55′36.86″ W)
BEARI, VA | WP | (Lat. 37°12′01.97″ N, long. 078°15′23.85″ W)
BBOBO, VA | WP | (Lat. 37°41′33.79″ N, long. 077°07′57.59″ W)
SHTGN, MD | WP | (Lat. 38°14′45.29″ N, long. 076°44′52.23″ W)
DANGR, MD | WP | (Lat. 38°57′36.25″ N, long. 075°58′30.85″ W)
BESSI, NJ | FIX | (Lat. 39°40′34.84″ N, long. 075°06′44.53″ W)
JOEPO, NJ | WP | (Lat. 39°53′57.33″ N, long. 074°51′39.48″ W)
BRAND, NJ | FIX | (Lat. 40°02′06.28″ N, long. 074°44′09.50″ W)
Robbinsville, NJ (RBV) | VORTAC | (Lat. 40°12′08.65″ N, long. 074°29′42.09″ W)
LLUND, NY | FIX | (Lat. 40°51′45.04″ N, long. 073°46′57.30″ W)
BAYYS, CT | FIX | (Lat. 41°17′21.27″ N, long. 072°58′16.73″ W)
FOXWD, CT | WP | (Lat. 41°48′21.66″ N, long. 071°48′07.03″ W)
* * * * * * *
Q-34 Texarkana, AR (TXK) to Robbinsville, NJ (RBV) [Amended]
Texarkana, AR (TXK) | VORTAC | (Lat. 33°30′49.97″ N, long. 094°04′23.67″ W)
HITMN, TN | WP | (Lat. 36°08′12.47″ N, long. 086°41′05.25″ W)
SITTR, WV | WP | (Lat. 37°46′49.13″ N, long. 081°07′23.70″ W)
DENNY, VA | FIX | (Lat. 37°52′00.15″ N, long. 079°44′13.75″ W)
MAULS, VA | WP | (Lat. 37°52′49.36″ N, long. 079°19′49.19″ W)
Gordonsville, VA (GVE) | VORTAC | (Lat. 38°00′48.96″ N, long. 078°09′10.90″ W)
BOOYA, VA | WP | (Lat. 38°24′20.50″ N, long. 077°21′46.36″ W)
PNGWN, NJ | WP | (Lat. 39°39′27.07″ N, long. 075°30′41.79″ W)
HULKK, NJ | WP | (Lat. 39°58′08.70″ N, long. 074°57′15.95″ W)
Robbinsville, NJ (RBV) | VORTAC | (Lat. 40°12′08.65″ N, long. 074°29′42.09″ W)
* * * * * * *
Q-60 BURGG, SC to HURTS, VA [Amended]
BURGG, SC | WP | (Lat. 35°02′00.55″ N, long. 081°55′36.86″ W)
EVING, NC | WP | (Lat. 36°05′21.65″ N, long. 079°53′56.38″ W)
JAXSN, VA | FIX | (Lat. 36°42′38.22″ N, long. 078°47′23.31″ W)
HURTS, VA | WP | (Lat. 37°27′41.87″ N, long. 076°57′17.75″ W)
* * * * * * *
Q-85 LPERD, FL to CRPLR, VA [Amended]
LPERD, FL | WP | (Lat. 30°36′09.18″ N, long. 081°16′52.16″ W)
BEEGE, GA | WP | (Lat. 31°10′59.98″ N, long. 081°16′57.50″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
PBCUP, NC | WP | (Lat. 34°59′29.65″ N, long. 078°19′51.07″ W)
MOXXY, NC | WP | (Lat. 36°02′46.63″ N, long. 077°19′31.71″ W)
CRPLR, VA | WP | (Lat. 37°36′24.01″ N, long. 076°09′57.67″ W)
* * * * * * *
Q-87 PEAKY, FL to HURTS, VA [Amended]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
FEMON, FL | WP | (Lat. 30°27′31.57″ N, long. 081°23′36.20″ W)
VIYAP, GA | FIX | (Lat. 31°15′08.15″ N, long. 081°26′08.18″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
ALWZZ, NC | WP | (Lat. 34°42′02.90″ N, long. 079°24′36.57″ W)
ASHEL, NC | WP | (Lat. 35°25′43.32″ N, long. 078°54′48.07″ W)
DADDS, NC | WP | (Lat. 35°36′30.35″ N, long. 078°47′20.70″ W)
NOWAE, NC | WP | (Lat. 36°22′39.49″ N, long. 078°14′59.21″ W)
RIDDN, VA | WP | (Lat. 36°47′21.19″ N, long. 077°45′50.29″ W)
GEARS, VA | WP | (Lat. 37°06′07.23″ N, long. 077°23′24.43″ W)
HURTS, VA | WP | (Lat. 37°27′41.87″ N, long. 076°57′17.75″ W)
* * * * * * *
Q-97 TOVAR, FL to Presque Isle, ME (PQI) [Amended]
TOVAR, FL | WP | (Lat. 26°33′05.09″ N, long. 080°02′19.75″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELMSZ, SC | WP | (Lat. 33°40′36.61″ N, long. 079°17′59.56″ W)
YURCK, NC | WP | (Lat. 34°11′14.80″ N, long. 078°52′40.62″ W)
ELLDE, NC | WP | (Lat. 34°24′14.57″ N, long. 078°41′50.60″ W)
YEASO, NC | WP | (Lat. 35°33′12.41″ N, long. 077°37′07.28″ W)
PAACK, NC | WP | (Lat. 35°55′40.26″ N, long. 077°15′30.99″ W)
KOHLS, NC | WP | (Lat. 36°22′17.76″ N, long. 076°52′21.48″ W)
SAWED, VA | FIX | (Lat. 37°32′00.73″ N, long. 075°51′29.10″ W)
KALDA, VA | FIX | (Lat. 37°50′31.05″ N, long. 075°37′35.34″ W)
ZJAAY, MD | WP | (Lat. 38°03′09.95″ N, long. 075°26′34.27″ W)
DLAAY, MD | WP | (Lat. 38°24′42.80″ N, long. 075°08′56.85″ W)
BRIGS, NJ | FIX | (Lat. 39°31′24.72″ N, long. 074°08′19.67″ W)
HEADI, NJ | WP | (Lat. 39°57′49.56″ N, long. 073°43′28.85″ W)
SAILN, OA | WP | (Lat. 40°15′15.92″ N, long. 073°27′01.93″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
BEEKN, ME | WP | (Lat. 43°20′51.95″ N, long. 070°44′50.28″ W)
FRIAR, ME | FIX | (Lat. 44°26′28.93″ N, long. 069°53′04.38″ W)
Presque Isle, ME (PQI) | VOR/DME | (Lat. 46°46′27,07″ N, long. 068°05′40.37″ W)
* * * * * * *
Q-99 KPASA, FL to HURLE, VA [Amended]
KPASA, FL | WP | (Lat. 28°10′34.00″ N, long. 081°54′27.00″ W)
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
RAANE, NC | WP | (Lat. 35°09′21.97″ N, long. 079°41′33.90″ W)
OGRAE, NC | WP | (Lat. 35°44′44.41″ N, long. 079°11′07.71″ W)
PEETT, NC | WP | (Lat. 36°26′44.93″ N, long. 078°34′16.17″ W)
SHIRY, VA | WP | (Lat. 36°58′33.28″ N, long. 078°09′13.11″ W)
UMBRE, VA | WP | (Lat. 37°23′38.72″ N, long. 077°49′09.50″ W)
QUART, VA | WP | (Lat. 37°31′25.15″ N, long. 077°42′53.29″ W)
HURLE, VA | WP | (Lat. 37°44′01.09″ N, long. 077°32′42.16″ W)
* * * * * * *
Q-101 SKARP, NC to TUGGR, VA [New]
SKARP, NC | WP | (Lat. 34°29′10.30″ N, long. 077°24′37.54″ W)
PRANK, NC | WP | (Lat. 35°14′27.41″ N, long. 076°56′28.54″ W)
BGBRD, NC | WP | (Lat. 35°53′45.11″ N, long. 076°32′23.15″ W)
HYPAL, VA | WP | (Lat. 37°03′27.23″ N, long. 075°44′43.09″ W)
TUGGR, VA | WP | (Lat. 37°41′08.72″ N, long. 075°36′36.92″ W)
* * * * * * *
Q-107 GARIC, NC to HURTS, VA [New]
GARIC, NC | WP | (Lat. 33°52′34.84″ N, long. 077°58′53.66″ W)
ZORDO, NC | WP | (Lat. 34°52′01.73″ N, long. 077°49′30.60″ W)
JAAMS, NC | WP | (Lat. 35°44′18.05″ N, long. 077°31′41.60″ W)
ALINN, NC | WP | (Lat. 36°28′15.05″ N, long. 077°17′15.81″ W)
HURTS, VA | WP | (Lat. 37°27′41.87″ N, long. 076°57′17.75″ W)
* * * * * * *
Q-109 KNOST, OG to DFENC, NC [Amended]
KNOST, OG | WP | (Lat. 28°00′02.55″ N, long. 083°25′23.99″ W)
DEANR, FL | WP | (Lat. 29°15′30.40″ N, long. 083°03′30.24″ W)
BRUTS, FL | WP | (Lat. 29°30′58.00″ N, long. 082°58′57.00″ W)
EVANZ, FL | WP | (Lat. 29°54′12.11″ N, long. 082°52′03.81″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, SC | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
TINKK, NC | WP | (Lat. 34°51′03.78″ N, long. 078°05′48.08″ W)
DFENC, NC | WP | (Lat. 35°55′11.09″ N, long. 077°03′37.54″ W)
* * * * * * *
Q-111 ZORDO, NC to ALXEA, VA [New]
ZORDO, NC | WP | (Lat. 34°52′01.73″ N, long. 077°49′30.60″ W)
LARKE, NC | WP | (Lat. 35°36′16.63″ N, long. 077°39′33.59″ W)
RUKRR, VA | WP | (Lat. 36°33′00.47″ N, long. 077°29′22.43″ W)
GEARS, VA | WP | (Lat. 37°06′07.23″ N, long. 077°23′24.43″ W)
SWNGR, VA | WP | (Lat. 37°36′38.12″ N, long. 077°19′22.71″ W)
ALXEA, VA | WP | (Lat. 37°47′04.46″ N, long. 077°17′09.73″ W)
* * * * * * *
Q-113 RAYVO, SC to RIDDN, VA [Amended]
RAYVO, SC | WP | (Lat. 33°38′44.12″ N, long. 080°04′00.84″ W)
CEELY, SC | WP | (Lat. 34°12′54.72″ N, long. 079°27′57.01″ W)
SARKY, SC | WP | (Lat. 34°25′41.43″ N, long. 079°14′17.50″ W)
MARCL, NC | WP | (Lat. 35°43′54.41″ N, long. 078°25′46.57″ W)
AARNN, NC | WP | (Lat. 36°22′43.59″ N, long. 078°01′04.05″ W)
RIDDN, VA | WP | (Lat. 36°47′21.19″ N, long. 077°45′50.29″ W)
* * * * * * *
Q-117 YLEEE, NC to SAWED, VA [New]
YLEEE, NC | WP | (Lat. 34°33′40.63″ N, long. 077°40′27.89″ W)
CUDLE, NC | WP | (Lat. 35°08′19.48″ N, long. 077°32′36.22″ W)
SUSSA, NC | WP | (Lat. 35°40′37.55″ N, long. 077°08′20.62″ W)
KTEEE, NC | WP | (Lat. 35°54′55.66″ N, long. 076°57′30.45″ W)
SAWED, VA | FIX | (Lat. 37°32′00.73″ N, long. 075°51′29.10″ W)
* * * * * * *
Q-131 ZILLS, NC to ZJAAY, MD [New]
ZILLS, NC | WP | (Lat. 33°47′32.68″ N, long. 077°52′08.59″ W)
YLEEE, NC | WP | (Lat. 34°33′40.63″ N, long. 077°40′27.89″ W)
EARZZ, NC | WP | (Lat. 35°54′39.84″ N, long. 076°51′21.64″ W)
ODAWG, VA | WP | (Lat. 37°07′11.61″ N, long. 076°02′03.17″ W)
KALDA, VA | FIX | (Lat. 37°50′31.05″ N, long. 075°37′35.34″ W)
ZJAAY, MD | WP | (Lat. 38°03′09.95″ N, long. 075°26′34.27″ W)
* * * * * * *
Q-133 CHIEZ, NC to PONCT, NY [New]
CHIEZ, NC | WP | (Lat. 34°31′05.93″ N, long. 077°32′25.74″ W)
BENCH, NC | WP | (Lat. 35°34′48.52″ N, long. 076°53′51.13″ W)
KOOKI, NC | WP | (Lat. 35°54′21.71″ N, long. 076°41′56.22″ W)
PYSTN, VA | WP | (Lat. 37°05′19.78″ N, long. 075°53′22.19″ W)
KALDA, VA | FIX | (Lat. 37°50′31.05″ N, long. 075°37′35.34″ W)
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
MYRCA, NJ | WP | (Lat. 40°20′42.97″ N, long. 073°56′58.07″ W)
Kennedy, NY (JFK) | VOR/DME | (Lat. 40°37′58.40″ N, long. 073°46′17.00″ W)
LLUND, NY | FIX | (Lat. 40°51′45.04″ N, long. 073°46′57.30″ W)
FARLE, NY | FIX | (Lat. 41°09′09.46″ N, long. 073°47′48.52″ W)
GANDE, NY | FIX | (Lat. 41°30′36.66″ N, long. 073°48′52.03″ W)
PONCT, NY | WP | (Lat. 42°44′48.83″ N, long. 073°48′48.07″ W)
* * * * * * *
Q-135 JROSS, SC to CUDLE, NC [Amended]
JROSS, SC | WP | (Lat. 32°42′40.00″ N, long. 080°37′38.00″ W)
PELIE, SC | WP | (Lat. 33°21′23.88″ N, long. 079°44′43.43″ W)
ELMSZ, SC | WP | (Lat. 33°40′36.61″ N, long. 079°17′59.56″ W)
RAPZZ, NC | WP | (Lat. 34°15′03.34″ N, long. 078°29′17.58″ W)
ZORDO, NC | WP | (Lat. 34°52′01.73″ N, long. 077°49′30.60″ W)
CUDLE, NC | WP | (Lat. 35°08′19.48″ N, long. 077°32′36.22″ W)
* * * * * * *
Q-167 ZJAAY, MD to SSOXS, MA [New]
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | FIX | (Lat. 38°56′26.46″ N, long. 074°31′44.27″ W)
YAZUU, NJ | FIX | (Lat. 39°24′44.82″ N, long. 074°01′01.55″ W)
TOPRR, OA | WP | (Lat. 39°50′49.13″ N, long. 073°32′12.02″ W)
EMJAY, NJ | FIX | (Lat. 40°05′34.89″ N, long. 073°15′42.31″ W)
SPDEY, OA | WP | (Lat. 40°14′56.38″ N, long. 073°05′08.69″ W)
RIFLE, NY | FIX | (Lat. 40°41′24.18″ N, long. 072°34′54.89″ W)
HOFFI, NY | FIX | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
GRONC, NY | WP | (Lat. 41°08′42.80″ N, long. 071°45′27.74″ W)
NESTT, RI | WP | (Lat. 41°21′35.84″ N, long. 071°20′05.38″ W)
BUZRD, MA | WP | (Lat. 41°32′45.88″ N, long. 070°57′50.69″ W)
SSOXS, MA | FIX | (Lat. 41°50′12.62″ N, long. 070°44′46.26″ W)
* * * * * * *
Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
JROSS, SC | WP | (Lat. 32°42′40.00″ N, long. 080°37′38.00″ W)
SESUE, SC | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
DEEEZ, NC | WP | (Lat. 35°16′55.92″ N, long. 078°14′24.28″ W)
GUILD, NC | WP | (Lat. 36°18′49.56″ N, long. 077°14′59.96″ W)
CRPLR, VA | WP | (Lat. 37°36′24.01″ N, long. 076°09′57.67″ W)
TRPOD, MD | WP | (Lat. 38°20′17.30″ N, long. 075°30′28.27″ W)
GNARO, DE | WP | (Lat. 39°05′20.33″ N, long. 075°22′14.81″ W)
VILLS, NJ | FIX | (Lat. 39°18′03.87″ N, long. 075°06′37.89″ W)
Coyle, NJ (CYN) | VORTAC | (Lat. 39°49′02.42″ N, long. 074°25′53.85″ W)
WHITE, NJ | FIX | (Lat. 40°00′24.32″ N, long. 074°15′04.61″ W)
* * * * * * *
Q-419 BROSS, MD to Deer Park, NY (DPK) [Amended]
BROSS, MD | FIX | (Lat. 39°11′28.40″ N, long. 075°52′49.88″ W)
BSERK, NJ | WP | (Lat. 39°47′27.01″ N, long. 075°13′10.29″ W)
HULKK, NJ | WP | (Lat. 39°58′08.70″ N, long. 074°57′15.95″ W)
Robbinsville, NJ (RBV) | VORTAC | (Lat. 40°12′08.65″ N, long. 074°29′42.09″ W)
LAURN, NY | FIX | (Lat. 40°33′05.80″ N, long. 074°07′13.67″ W)
Kennedy, NY (JFK) | VOR/DME | (Lat. 40°37′58.40″ N, long. 073°46′17.00″ W)
Deer Park, NY (DPK) | VOR/DME | (Lat. 40°47′30.30″ N, long. 073°18′13.17″ W)
* * * * * * *
Q-445 PAACK, NC to KYSKY, NY [New]
PAACK, NC | WP | (Lat. 35°55′40.26″ N, long. 077°15′30.99″ W)
JAMIE, VA | FIX | (Lat. 37°36′20.58″ N, long. 075°57′48.81″ W)
CONFR, MD | WP | (Lat. 38°16′10.90″ N, long. 075°24′32.98″ W)
RADDS, DE | FIX | (Lat. 38°38′54.80″ N, long. 075°05′18.48″ W)
WNSTN, NJ | WP | (Lat. 39°05′43.81″ N, long. 074°48′01.20″ W)
AVALO, NJ | FIX | (Lat. 39°16′54.52″ N, long. 074°30′50.75″ W)
BRIGS, NJ | FIX | (Lat. 39°31′24.72″ N, long. 074°08′19.67″ W)
SHAUP, OA | WP | (Lat. 39°44′23.91″ N, long. 073°34′33.84″ W)
VALCO, OA | WP | (Lat. 40°05′29.86″ N, long. 073°08′22.91″ W)
KYSKY, NY | FIX | (Lat. 40°46′52.75″ N, long. 072°12′21.45″ W)
* * * * * * *
Q-481 CONFR, MD to Deer Park, NY (DPK) [New]
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
ZIGGI, NJ | FIX | (Lat. 40°03′07.01″ N, long. 074°00′49.34″ W)
Deer Park, NY (DPK) | VOR/DME | (Lat. 40°47′30.30″ N, long. 073°18′13.17″ W)

* * * * *

Issued in Washington, DC, on July 12, 2022.
Scott M. Rosenbloom,
Manager, Airspace Rules and Regulations.

[FR Doc. 2022-15149 Filed 7-18-22; 8:45 am]

BILLING CODE 4910-13-P